DEPARTMENT OF JUSTICE

Notice of Lodging of Consent Decree Pursuant to the Clean Air Act

In accordance with 28 CFR 50.7, notice is hereby given that on February 1, 2001, a proposed consent decree in United States v. Natural Gas Pipeline Company of America, Civil Action No. 99-S-2419, was lodged with the United States District Court for the District of Colorado.

In this action, the United States sought civil penalties for alleged violations of Section 113(b) of the Clean Air Act (CAA), 42 U.S.C. 7413(b), resulting from the alleged failure of Natural Gas Pipeline Company of America (NGPL) to obtain a Prevention of Significant Deterioration (PSD) permit from the U.S. Environmental Protection Agency (EPA) before construction in May 1979 of a natural gas compressor station, the Akron Compressor Station (also known as the “Niobrara Compressor Station”), located in Washington County, Colorado. The United States also alleges that NGPL operated the Akron Compressor Station as a major stationary source in violation of the CAA, 42 U.S.C. 7413, without an appropriate PSD permit, and without application of best available control technology.

Under the terms of the proposed consent decree, NGPL will pay a civil penalty of $215,000 for alleged violations of the CAA PSD program, and implement a Supplemental Environmental Project (SEP) that will be valued at $100,000 in order to resolve the United States' claims. The SEP requires NGPL to install equipment on two gas-fired compressor engines at the Crystal River Compressor Station in Glenwood Springs, Colorado, and on two gas-fired compressor engines at the Well Draw Compressor Station in Converse County, Wyoming. When the SEP is completed, total nitrogen oxide (NOX reductions at the two stations are expected to be about 400 tons per year (TPY). The proposed consent decree does not require that NGPL take any injunctive measures because NGPL no longer owns the Akron Compressor Station at issue in this case.

The Department of Justice will receive comments relating to the proposed consent decree for a period of thirty (30) days from the date of this publication. Comments should be addressed to the Acting Assistant Attorney General for the Environment and Natural Resources Division, Department of Justice, Washington, DC 20530, and should refer to United States v. Natural Gas Pipeline Company of America, Civil Action No. 99-S-2419, and Department of Justice Reference No. 90-5-2-1-06728.

The proposed consent decree may be examined at the Office of the United States Attorney, 1225 17th Street, Suite 700, Denver, CO 80202; and at U.S. EPA Region VIII, 999 18th Street, Denver, Colorado 80202. A copy of the proposed consent decree may be obtained by mail from the Consent Decree Library, P.O. Box 7611, Washington, DC 20044. In requesting a copy, please enclose a check in the amount of $7.50 (25 cents per page reproduction cost) payable to the Consent Decree Library.

Robert Brook,
Assistant Section Chief, Environmental Enforcement Section, Environment and Natural Resources Division, U.S. Department of Justice.

[FR Doc. 01-4062 Filed 2-16-01; 8:45 am]

BILLING CODE 4410-15-M